DEPARTMENT OF THE INTERIOR

National Park Service

[NPS-WASO-NRNHL-23061; PPWOCRADI0, PCU00RP14.R50000]

National Register of Historic Places; Notification of Pending Nominations and Related Actions

AGENCY: National Park Service, Interior.

ACTION: Notice.

SUMMARY: The National Park Service is soliciting comments on the significance of properties nominated before March 4, 2017, for listing or related actions in the National Register of Historic Places.

DATES: Comments should be submitted by April 12, 2017.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before March 4, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Monterey County

Point Sur Light Station (Boundary Increase) (Light Stations of California MPS), Moro Rock and adjacent NAVFAC parcels, Big Sur vicinity, BC100000880

San Diego County

Portuguese Chapel of San Diego, 2818 Avenida de Portugal, San Diego, SG100000881

Yolo County

Washington Firehouse, 317 3rd St., West Sacramento, SG100000882

GEORGIA

De Kalb County

Northcrest Historic District, Roughly bounded by Chamblee-Tucker, Northcrest & Pleasantdale Rds., Doraville vicinity, SG100000883

MICHIGAN

Manistee County

Walther League Camp—Camp Arcadia, 3046 Oak St., Arcadia Township, SG100000884

Monroe County

Hall of the Divine Child, 810 W. Elm Ave., Monroe, SG100000885

Ottawa County

De Pree, Max and Esther, House, 279 S. Division St., Zeeland, SG100000886

MISSOURI

Newton County

Neosho Colored School, 639 Young St., Neosho, SG100000887

MONTANA

Fergus County

Gamble—Robinson Company Warehouse, 302 E. Main St., Lewistown, SG100000888

NEW YORK

Albany County

Bleeker Stadium and Swinburne Park, Clinton Ave., Albany, SG100000889

Lincoln Park

Lincoln Park, Albany, SG100000890

Erie County

Burt, F.N., Company Factory “C”, 1502 Niagara St., Buffalo, SG100000891

Hamilton County

Dollar Island Camp, 1 Dollar Island (in Fourth Lake), Inlet, SG100000892

Jefferson County

Robinson, George T., House, 15082 Bluff Island, Clayton, SG100000893

Madison County

Nelson Methodist Episcopal Church, 3333 US 20 E., Cazenovia, SG100000894

Seneca County

Waterloo Downtown Historic District, 1-42 E. Main, 1-40 W. Main & 16-41 Virginia Sts., Waterloo, SG100000895

NORTH CAROLINA

Durham County

Little River High School, 8307 N. Roxboro Rd., Bahama vicinity, SG100000896

Haywood County

Green Hill Cemetery, Veterans Cir., Waynesville, SG100000897

Lenoir County

Imperial Tobacco Company Office Building (Kinston MPS), 426 N. Heritage St., Kinston, MP100000898

Lincoln County

Rock Spring Camp Ground (Boundary Increase), 6831 Campground Rd., Denver, BC100000899

Macon County

Prince, Elizabeth Wright, House, 524 N. 4th St., Highlands, SG100000901

Pender County

SS. Peter and Paul's Russian Orthodox Greek Catholic Church, 2384 Front St., St. Helena, SG100000903

TENNESSEE

Robertson County

McMurray, William M., House, 313 N. Main St., Springfield, SG100000904

An additional documentation has been received for the following resource(s):

NORTH CAROLINA

Lincoln County

Rock Spring Camp Ground, 6831 Campground Rd., Denver, AD100000899

Northampton County

Edgewood, NC 305, 0.4 mi NE of NC 258, Rich Square vicinity, AD01001114

Authority: 60.13 of 36 CFR part 60.

Dated: March 7, 2017.
J. Paul Loether,
Chief, National Register of Historic Places/National Historic Landmarks Program.

[FR Doc. 2017-06064 Filed 3-27-17; 8:45 am]

BILLING CODE 4312-52-P